DEPARTMENT OF TRANSPORTATION

Office of the Secretary

Notice of Applications for Certificates of Public Convenience and Necessity and Foreign Air Carrier Permits Filed Under Subpart B (Formerly Subpart Q) During the Week Ending June 30, 2006

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-25289.

Date Filed: June 30, 2006.

Due Date for Answers, Conforming Applications, or Motion to Modify Scope: July 21, 2006.

Description: Application of Air Madrid Lineas Aereas S.A., requesting a foreign air carrier permit to engage in (i) scheduled foreign air transportation of persons, property, and mail between any point or points in Spain and points in the United States coextensive with the rights provided under the bilateral agreement, and (ii) charter foreign air transportation of persons, property and mail pursuant to the U.S.-Spain Air Transport Agreement and Part 212 of the Department's Regulations.

Renee V. Wright,
Program Manager, Docket Operations, Federal Register Liaison.

[FR Doc. E6-11472 Filed 7-18-06; 8:45 am]

BILLING CODE 4910-9X-P